DEPARTMENT OF THE INTERIOR

Bureau of Land Management

[NM-952-06-1910-BJ]

Notice of Filing of Plats of Survey; OK

AGENCY: Bureau of Land Management, Interior.

ACTION: Notice.

SUMMARY: The plats of survey described below are scheduled to be officially filed in the New Mexico State Office, Bureau of Land Management, Santa Fe, New Mexico, (30) thirty calendar days from the date of this publication, per BLM Manual 2097, Opening Orders.

SUPPLEMENTARY INFORMATION:

Indian Meridian, Oklahoma

The plat, in two sheets, representing the dependent resurvey of portions of the north boundary and the subdivisional lines, the subdivision of sections 5 and 8, and the adjusted 1875 record meanders of the former left bank of the Red River in section 5 and 8, and the completion survey of portions of the north boundary and the subdivisional lines within the bed of the Red River, the survey of partition lines of the bed of the Red River, the informative traverse of the meanders of the left bank of the Red River in sections 4, 5 and 6, the survey of the meanders of the right bank of the Red River in sections 2, 3, 4, 8, 9, 17 and 18, the medial line of the Red River in sections 4, 5 and 8, and a metes-and-bounds survey (Integrated Tract), Township 5 South, Range 14 West, Indian Meridian, accepted February 20, 2006, for Groups 81 and 126, Oklahoma.

The plat, in two sheets, representing the dependent resurvey of a portion of the subdivisional lines, a portion of the subdivision of section 33, and the adjusted 1875 record meanders of the former left bank of the Red River in section 34, the subdivision of section 34, the completion survey of a portion of the subdivisional lines within the bed of the Red river, the survey of partition lines of the bed of the Red River, the informative traverse of the meanders of the left bank of the Red River in sections 33, 34 and 35, the survey of the meanders of the right bank of the Red River in unsurveyed portions of Township 4 and 5 South, Range 14 West, and the medial line of the Red River in sections 33, 34 and 35, and a metes-and-bounds survey (Integrated Tract), Township 4 South, range 14 West, Indian Meridian, accepted February 20, 2006, for Groups 84 and 126, Oklahoma.

If a protest against a survey, in accordance with 43 CFR 4.450-2, of any of the above plats is received prior to the date of official filing, the filing will be stayed pending consideration of the protest. A plat will not be officially filed until the day after all protests have been addressed.

A person or party who wishes to protest against any of these surveys must file a written protest with the New Mexico State Director, Bureau of Land Management at the address below, stating that they wish to protest.

A statement of reasons for a protest may be filed with the notice of protest to the State Director, or the statement of reasons must be filed with the State Director within thirty days after the protest is filed.

FOR FURTHER INFORMATION CONTACT: These plats will be available for inspection in the New Mexico State Office, Bureau of Land Management, P.O. Box 27115, Santa Fe, New Mexico 87502-0115. Copies may be obtained from this office upon payment of $1.10 per sheet. contact Marcella Montoya at 505-438-7537, or Marcella_Montoya@nm.blm.gov, for assistance.

Dated: May 9, 2006.
Robert Casias,
Chief Cadastral Surveyor for New Mexico.

[FR Doc. 06-4540 Filed 5-15-06; 8:45 am]

BILLING CODE 4310-FB-M